DEPARTMENT OF ENERGY

Federal Energy Regulatory Commission

[Project No. 5698-022]

Triton Power Company; Notice of Intent To File License Application, Filing of Pre-Application Document, Approving Use of the Traditional Licensing Process

a. Type of Filing: Notice of Intent to File License Application and Request to Use the Traditional Licensing Process.

b. Project No.: 5698-022.

c. Date Filed: December 31, 2020.

d. Submitted By: Triton Power Company (Triton Power).

e. Name of Project: Chateaugay High Falls Hydroelectric Project.

f. Location: On the Chateaugay River in the Town of Chateaugay, Franklin County, New York. The project does not occupy any federal land.

g. Filed Pursuant to: 18 CFR 5.3 of the Commission's regulations.

h. Potential Applicant Contact: Mr. Tim Carlsen, Chief Executive Officer, Hydroland, Inc., 403 Madison Ave. N #240, Bainbridge Island, WA 98110; (844) 493-7612; email—tim@hydrolandcorp.com.

i. FERC Contact: Jeremy Feinberg at (202) 502-6893; or email at jeremy.feinberg@ferc.gov.

j. Triton Power filed its request to use the Traditional Licensing Process on December 31, 2020. Triton Power provided public notice of its request on December 29, 2020. In a letter dated February 26, 2021, the Director of the Division of Hydropower Licensing approved Triton Power's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating Triton Power as the Commission's non-federal representative for carrying out informal consultation pursuant to section 7 of the Endangered Species Act and consultation pursuant to section 106 of the National Historic Preservation Act.

m. Triton Power filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov, (866) 208-3676 (toll free), or (202) 502-8659 (TTY).

o. The licensee states its unequivocal intent to submit an application for a new license for Project No. 5698. Pursuant to 18 CFR 16.8, 16.9, and 16.10 each application for a new license and any competing license applications must be filed with the Commission at least 24 months prior to the expiration of the existing license. All applications for license for this project must be filed by December 31, 2023.

p. Register online at http://www.ferc.gov/docs-filing/esubscription.asp to be notified via email of new filing and issuances related to this or other pending projects. For assistance, contact FERC Online Support.

Dated: February 26, 2021.
Kimberly D. Bose,
Secretary.

[FR Doc. 2021-04467 Filed 3-3-21; 8:45 am]

BILLING CODE 6717-01-P